DEPARTMENT OF VETERANS AFFAIRS

Special Medical Advisory Group, Notice of Meeting

The Department of Veterans Affairs (VA) gives notice under the Federal Advisory Committee Act, 5 U.S.C. chapter 10, that the Special Medical Advisory Group (the Committee) will meet on Wednesday, September 13, 2023, from 9:00 a.m. to 3:30 p.m. Eastern Standard Time (EST), at the James A. Haley Veterans Hospital, 13000 Bruce B. Downs Blvd., Tampa, FL 33612. Members of the Committee may join in person or virtually. The public will only be able to attend virtually. Public stakeholder seating is very limited and must be coordinated in advance with the DFO. The TAMPA Medical Center Conference Room #101 will not accommodate more than the committee members, agency senior leaders, Designated Federal Official, and a few public in person attendees.

The purpose of the Committee is to advise the Secretary of Veterans Affairs and the Under Secretary for Health on the care and treatment of Veterans, and other matters pertinent to the Veterans Health Administration.

On September 13, 2023, the agenda for the meeting may include discussions on Women's Health Challenges, Virtual Care/Telehealth, Mental Health Initiative, COVID-19 Lessons Learned and Planning for the Next Pandemic, Manchester VA Task Force 2025, Electronic Health Record Modernization (EHRM) updates, Population Health Initiatives for Veterans, and Update on new VA Facilities. The meeting is open to the public, except when the Committee discusses and reviews sensitive/confidential presentation materials related to Electronic Health Record Modernization (EHRM) updates between approximately 9:30 a.m. and 10:30 a.m. ET, and when the Committee breaks for lunch from approximately 11:30 a.m. and 12:10 p.m. ET. The sensitive/confidential EHRM updates discussion will be closed in accordance with 5 U.S.C. 552(c)(2)(4). An announcement at the start of the meeting will be made to all in person and virtual attendees making them aware of any adjustments to topic session times.

The meeting can be joined by phone at 404-397-1596 (Access code: 27615067655) and via Webex at: https://veteransaffairs.webex.com/wbxmjs/joinservice/sites/veteransaffairs/meeting/download/9d62ddfa14414969bb1f3ed8c27aa539?siteurl=veteransaffairs&MTID=m60405b2049a8092a5b2c7713896b1123. Please contact the point of contact below for assistance connecting.

Members of the public may submit written statements for review by the Committee to: Department of Veterans Affairs, Special Medical Advisory Group—Office of Under Secretary for Health (10), Veterans Health Administration, 810 Vermont Ave. NW, Washington, DC 20420 or by email at VASMAGDFO@va.gov. Comments will be accepted until close of business on Friday, September 8, 2023.

Any member of the public wishing to attend the virtual meeting or seeking additional information should email VASMAGDFO@va.gov or call 206-310-5607.

Dated: September 8, 2023.
LaTonya L. Small,
Federal Advisory Committee Management Officer.

[FR Doc. 2023-19759 Filed 9-12-23; 8:45 am]

BILLING CODE P